DEPARTMENT OF THE INTERIOR

Geological Survey

National Satellite Land Remote Sensing Data Archive Advisory Committee; Committee Meeting

AGENCY: U.S. Geological Survey.

ACTION: Notice of meeting.

SUMMARY: Pursuant to Public Law 92-463, the National Satellite Land Remote Sensing Data Archive (NSLRSDA) Advisory Committee will meet at the U.S. Geological Survey (USGS) Earth Resources Observation Systems (EROS) Data Center (EDC) near Sioux Falls, South Dakota. The Committee, comprised of 15 members from academia, industry, government, information science, natural science, social science, and policy/law, will provide the USGS, EDC management with advice and consultation on defining and accomplishing the NSLRSDA's archiving and access goals to carry out the requirements of the Land Remote Sensing Policy Act; on priorities of the NSLRSDA's tasks; and, on issues of archiving, data management, science, policy, and public-private partnerships.

Topics to be reviewed and discussed by the Committee include determining the content of and upgrading the basic data set as identified by the Congress; metada content and accessibility; product characteristics, availability, and delivery; and, archiving, data access, and distribution policies.

DATES: March 28, 2001 commencing at 8:30 a.m. and adjourning at 12 noon on March 30, 2001.

CONTACT: Mr. Thomas M. Holm, Chief, Data Services Branch, U.S. Geological Survey, EROS Data Center, Sioux Falls, South Dakota, 57198 at (605) 594-6142 or email at holm@usgs.gov.

SUPPLEMENTARY INFORMATION: Meetings of the National Satellite Land Remote Sensing Data Archive Advisory Committee are open to the public. The required lead time for notification of this meeting could not be met due to the fact that we were awaiting final Congressional approval of reestablishing the Committee. Previous Committee meeting minutes are available for public review at http://edc.usgs.gov/programs/nslrsda/advcomm.html.

Barbara Ryan,
Associate Director for Geography.

[FR Doc. 01-5659 Filed 3-7-01; 8:45 am]

BILLING CODE 4310-Y7-M